NATIONAL TRANSPORTATION SAFETY BOARD

Sunshine Act Meeting

TIME AND DATE: 9:30 p.m., Tuesday, June 18, 2019.

PLACE: NTSB Conference Center, 429 L'Enfant Plaza SW, Washington, DC 20594.

STATUS: The one item is open to the public.

MATTERS TO BE CONSIDERED: 58913 Highway Accident Report—School Bus Run-Off-Road Crash and Fire, Oakland, Iowa, December 12, 2017.

NEWS MEDIA CONTACT: Telephone: (202) 314-6100. The press and public may enter the NTSB Conference Center one hour prior to the meeting for set up and seating.

Individuals requesting specific accommodations should contact Rochelle McCallister at (202) 314-6305 or by email at Rochelle.McCallister@ntsb.gov by Wednesday, June 12, 2019.

The public may view the meeting via a live or archived webcast by accessing a link under “News & Events” on the NTSB home page at www.ntsb.gov.

Schedule updates, including weather-related cancellations, are also available at www.ntsb.gov.

FOR FURTHER INFORMATION CONTACT: Candi Bing at (202) 314-6403 or by email at bingc@ntsb.gov.

FOR MEDIA INFORMATION CONTACT: Keith Holloway at (202) 314-6144 or by email at hollowk@ntsb.gov.

Friday, May 24, 2019.
LaSean McCray,
Assistant Federal Register Liaison Officer.

[FR Doc. 2019-11247 Filed 5-24-19; 11:15 am]

BILLING CODE 7533-01-P